DEPARTMENT OF LABOR

Employment and Training Administration

[TA-W-65,378]

Ethan Allen Operations, Inc.; Beecher Falls, VT; Notice of Termination of Investigation

In accordance with Section 221 of the Trade Act of 1974, as amended, an investigation was initiated on February 25, 2009 in response to a petition filed by a company official on behalf of workers of Ethan Allen Operations, Inc., Beecher Falls, Vermont.

The petitioner has requested that the petition be withdrawn. Consequently, the investigation has been terminated.

Signed in Washington, DC, this 2nd day of April 2009.
Richard Church,
Certifying Officer, Division of Trade Adjustment Assistance.

[FR Doc. E9-10562 Filed 5-6-09; 8:45 am]

BILLING CODE 4510-FN-P